OFFICE OF PERSONNEL MANAGEMENT

Excepted Service

AGENCY: Office of Personnel Management (OPM).

ACTION: Notice.

SUMMARY: This notice identifies Schedule A, B, and C appointing authorities applicable to a single agency that was established, modified, or revoked from December 1, 2023, to December 31, 2023.

FOR FURTHER INFORMATION CONTACT: Julia Alford, Agency Operations and Services, Executive Services and Workforce Development, Workforce Policy and Innovation, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but OPM publishes a notice of agency-specific authorities established or revoked each month in the Federal Register at https://www.govinfo.gov/. OPM also publishes an annual notice of the consolidated listing of all Schedule A, B, and C appointing authorities, current as of June 30, in the Federal Register.

Below are the Schedule A, B, and C appointing authorities applicable to a single agency that was established, modified, or revoked from December 1, 2023, to December 31, 2023.

Schedule A

No Schedule A Authorities to report during December 2023.

Schedule B

No Schedule B Authorities to report during December 2023.

Schedule C

The following Schedule C appointing authorities were approved during December 2023.

Agency name | Organization name | Position title | Authorization No. | Effective date
DEPARTMENT OF AGRICULTURE | Office of the Assistant Secretary for Congressional Relations | Legislative Analyst | DA240017 | 12/04/2023
| Agricultural Marketing Service | Chief of Staff | DA240019 | 12/06/2023
| Natural Resources Conservation Service | Special Advisor | DA240029 | 12/29/2023
| Office of Communications | Special Advisor | DA240028 | 12/29/2023
| Office of the Assistant Secretary for Civil Rights | Chief of Staff | DA240026 | 12/29/2023
| Office of the Secretary | Special Advisor | DA240021 | 12/07/2023
| Office of the Under Secretary for Marketing and Regulatory Programs | Chief of Staff | DA240022 | 12/08/2023
| Office of Under Secretary for Natural Resources and Environment | Special Advisor | DA240027 | 12/14/2023
DEPARTMENT OF COMMERCE | Office of Public Affairs | Press Assistant | DC240014 | 12/01/2023
| Office of the Deputy Secretary | Associate Director for Operations | DC240016 | 12/01/2023
| Minority Business Development Agency | Deputy Chief of Staff | DC240018 | 12/01/2023
| International Trade Administration | Speechwriter and Policy Advisor Senior Advisor | DC240024 DC240029 | 12/14/2023 12/29/2023
COMMODITY FUTURES TRADING COMMISSION | Commodity Futures Trading Commission | Confidential Assistant | CT240001 | 12/07/2023
| Office of the Chairperson | Confidential Assistant | CT240002 | 12/15/2023
|  | Senior Advisor | CT240003 | 12/15/2023
DEPARTMENT OF DEFENSE | Office of the Secretary of Defense | Special Assistant Protocol Officer | DD240020 DD240024 | 12/08/2023 12/27/2023
DEPARTMENT OF THE ARMY | Office Deputy Under Secretary of Army | Special Assistant to the Deputy Under Secretary of the Army | DW240011 | 12/11/2023
DEPARTMENT OF EDUCATION | Office of Planning, Evaluation and Policy Development | Chief of Staff | DB240006 | 12/29/2023
DEPARTMENT OF ENERGY | Office of Public Affairs | Press Assistant | DE240026 | 12/13/2023
| Office of Science | Special Assistant | DE240025 | 12/14/2023
ENVIRONMENTAL PROTECTION AGENCY | Office of the Administrator | Senior Advance Specialist | EP240020 | 12/28/2023
FEDERAL TRADE COMMISSION | Office of the Chair | Confidential Assistant | FT240004 | 12/05/2023
DEPARTMENT OF HEALTH AND HUMAN SERVICES | Office of the Assistant Secretary for Public Affairs | Special Advisor | DH240017 | 12/06/2023
| Office of the Secretary | Senior Advisor to the Executive Secretary | DH240026 | 12/06/2023
| Office of the Assistant Secretary for Public Affairs | National Press Secretary | DH240028 | 12/06/2023
DEPARTMENT OF HOUSING AND URBAN DEVELOPMENT | Office of Public Affairs | Digital Strategist Press Secretary | DU240010 DU240011 | 12/13/2023 12/13/2023
| Office of Congressional and Intergovernmental Relations | Deputy Assistant Secretary for Intergovernmental Relations | DU240013 | 12/14/2023
DEPARTMENT OF THE INTERIOR | Office of the Assistant Secretary—Land and Minerals Management | Special Assistant | DI240016 | 12/14/2023
DEPARTMENT OF LABOR | Mine Safety and Health Administration | Chief of Staff | DL240011 | 12/05/2023
| Office of the Secretary | Senior Advisor to the Secretary | DL240012 | 12/15/2023
NATIONAL AERONAUTICS AND SPACE ADMINISTRATION | Office of Legislative and Intergovernmental Affairs | Special Assistant for Legislative Affairs | NN240016 | 12/14/2023
| Office of Communications | Deputy Press Secretary Communications Manager | NN240018 NN240019 | 12/14/2023 12/15/2023
| Office of the Administrator | White House Liaison | NN240021 | 12/27/2023
SMALL BUSINESS ADMINISTRATION | Office of Field Operations | Senior Advisor | SB240006 | 12/11/2023
DEPARTMENT OF STATE | Bureau of Intelligence and Research | Senior Advisor | DS240040 | 12/20/2023
| Bureau of Legislative Affairs | House Director | DS240038 | 12/14/2023
| Office of China Coordination | Advisor for Strategic Communications Deputy Coordinator for Global Affairs | DS240030 DS240020 | 12/15/2023 12/20/2023
| Office of Global Partnership | Senior Advisor (2) Deputy Special Representative | DS240019 DS240024 DS240028 | 12/20/2023 12/20/2023 12/20/2023
| Office of Policy Planning | Special Advisor (Speechwriter) Senior Advisor Senior Advisor (Speechwriter) | DS240023 DS240029 DS240039 | 12/15/2023 12/20/2023 12/20/2023
| Office of the Chief of Protocol | Protocol Officer (Visits) Deputy Chief of Protocol | DS240013 DS240027 | 12/05/2023 12/15/2023
| Office of the Counselor | Chief of Staff | DS240021 | 12/14/2023
| Office of the Presidential Coordinator for the Partnership for Global Infrastructure and Investment | Special Advisor Senior Advisor | DS240025 DS240026 | 12/14/2023 12/28/2023
| Office of the Under Secretary for Economic Growth, Energy, and the Environment | Partnerships and Outreach Officer Special Advisor | DS240007 DS240050 | 12/01/2023 12/20/2023
| Office of the Under Secretary for Management | Deputy White House Liaison | DS240044 | 12/14/2023
| Office of the Under Secretary for Public Diplomacy and Public Affairs | Special Assistant | DS240043 | 12/15/2023
TRADE AND DEVELOPMENT AGENCY | Office of the Director | Director of Public Engagement | TD240001 | 12/28/2023
DEPARTMENT OF TRANSPORTATION | National Highway Traffic Safety Administration | Director of the Office of Governmental Affairs, Policy | DT240017 | 12/27/2023
DEPARTMENT OF THE TREASURY | Internal Revenue Service | Confidential Assistant | DY240027 | 12/13/2023
| Office of the Assistant Secretary (Public Affairs) | Press Assistant | DY240033 | 12/27/2023

The following Schedule C appointing authorities were revoked during December 2023.

Agency name | Organization name | Position title | Request No. | Vacate date
CONSUMER FINANCIAL PROTECTION BUREAU | Consumer Financial Protection Bureau | Associate Director, Research, Monitoring and Regulations | FP230001 | 12/30/2023
| Office of the Director | Assistant Director, Policy Planning and Strategy | FP230006 | 12/30/2023
DEPARTMENT OF AGRICULTURE | Natural Resources Conservation Service | Special Assistant | DA230066 | 12/30/2023
| Office of the Assistant Secretary for Civil Rights | Chief of Staff | DA230152 | 12/30/2023
| Office of the Assistant Secretary for Congressional Relations | Special Assistant | DA230085 | 12/16/2023
| Office of the Under Secretary for Marketing and Regulatory Programs | Chief of Staff | DA230051 | 12/16/2023
| Office of Under Secretary for Natural Resources and Environment | Special Assistant | DA230033 | 12/16/2023
| Rural Business Service | Chief of Staff | DA230015 | 12/02/2023
| Rural Development | State Director—Nebraska State Director—South Carolina | DA220030 DA210140 | 12/04/2023 12/15/2023
| Rural Utilities Service | Special Assistant | DA230042 | 12/16/2023
DEPARTMENT OF COMMERCE | Office of International Trade Administration | Policy Advisor Speechwriter and Policy Advisor | DC220172 DC220040 | 12/16/2023 12/02/2023
| Minority Business Development Agency | Special Assistant | DC230039 | 12/02/2023
| National Telecommunications and Information Administration | Advisor for Intergovernmental Affairs | DC220148 | 12/15/2023
| Office of Policy and Strategies Planning | Policy Advisor | DC230030 | 12/02/2023
| Patent and Trademark Office | Special Advisor | DC230027 | 12/02/2023
DEPARTMENT OF ENERGY | Office of the Assistant Secretary for Congressional and Intergovernmental Affairs | Deputy Assistant Secretary for Intergovernmental Affairs | DE230108 | 12/02/2023
| Office of the Assistant Secretary for Energy Efficiency and Renewable Energy | Advisor | DE230070 | 12/02/2023
| Office of Management | Scheduler to the Secretary | DE220097 | 12/30/2023
| Office of Manufacturing and Energy Supply Chains | Special Assistant | DE230007 | 12/30/2023
| Office of Science | Special Assistant | DE220122 | 12/02/2023
| Office of the Deputy Secretary | Special Advisor | DE230038 | 12/01/2023
DEPARTMENT OF HEALTH AND HUMAN SERVICES | Office of Intergovernmental and External Affairs | Director of External Affairs Senior Advisor | DH230010 DH230169 | 12/30/2023 12/15/2023
| Office of the Assistant Secretary for Public Affairs | Press Secretary (Human Services) Press Secretary (Health Care) | DH230032 DH240009 | 12/16/2023 12/30/2023
| Office of the Deputy Secretary | Advisor | DH230166 | 12/16/2023
DEPARTMENT OF HOMELAND SECURITY | Cybersecurity and Infrastructure Security Agency | External Affairs Specialist | DM220217 | 12/12/2023
| Office of Strategy, Policy and Plans | Special Assistant | DM230164 | 12/02/2023
| Transportation Security Administration | Advisor for Strategy, Policy Coordination, and Innovation | DM230222 | 12/30/2023
DEPARTMENT OF HOUSING AND URBAN DEVELOPMENT | Office of Congressional and Intergovernmental Relations | Senior Advisor | DU230016 | 12/16/2023
| Office of Field Policy and Management | Special Advisor | DU230058 | 12/30/2023
| Office of Public Affairs | Digital Strategist Deputy Press Secretary | DU220061 DU220058 | 12/16/2023 12/01/2023
DEPARTMENT OF LABOR | Department of Labor | Press Secretary and Communications Advisor | DL230076 | 12/01/2023
DEPARTMENT OF STATE | Bureau of Global Public Affairs | Deputy Assistant Secretary | DS210274 | 12/02/2023
| Bureau of Intelligence and Research | Senior Advisor | DS230116 | 12/08/2023
| Bureau of Legislative Affairs | House Director | DS230120 | 12/08/2023
| Global Engagement Center | Senior Advisor | DS230101 | 12/05/2023
| Office of China Coordination | Deputy Coordinator for Global Affairs Advisor for Strategic Communications | DS230019 DS230167 | 12/05/2023 12/05/2023
| Office of Global Partnership | Senior Advisor (2) Deputy Special Representative | DS230011 DS230017 DS230028 | 12/05/2023 12/05/2023 12/05/2023
| Office of Policy Planning | Senior Advisor (2) Senior Advisor (Speechwriter) Special Advisor (Speechwriter) | DS210278 DS220016 DS230026 DS230122 | 12/01/2023 12/30/2023 12/08/2023 12/05/2023
| Office of the Chief of Protocol | Protocol Officer (Visits) Deputy Chief of Protocol | DS220054 DS230177 | 12/02/2023 12/05/2023
| Office of the Counselor | Chief of Staff | DS230126 | 12/05/2023
| Office of the Presidential Coordinator for the Partnership for Global Infrastructure and Investment | Senior Advisor Special Advisor | DS230115 DS230151 | 12/05/2023 12/05/2023
| Office of the Under Secretary for Management | Deputy White House Liaison | DS230086 | 12/12/2023
| Office of the Under Secretary for Public Diplomacy and Public Affairs | Special Assistant | DS230166 | 12/12/2023
DEPARTMENT OF THE AIR FORCE | Office of the Under Secretary | Chief of Staff | DF220012 | 12/30/2023
DEPARTMENT OF THE INTERIOR | Secretary's Immediate Office | Special Assistant | DI220074 | 12/02/2023
DEPARTMENT OF THE NAVY | Office of the Secretary of the Navy | Special Assistant | DN230028 | 12/16/2023
DEPARTMENT OF THE TREASURY | Office of the Under Secretary for International Affairs | Special Assistant | DY230013 | 12/16/2023
ENVIRONMENTAL PROTECTION AGENCY | Office of Public Affairs | Writer-Editor (Speechwriter) | EP230003 | 12/30/2023
| Office of the Associate Administrator for Congressional and Intergovernmental Relations | Special Advisor for Senate Relations | EP230110 | 12/16/2023
FARM CREDIT ADMINISTRATION | Office of the Board | Executive Assistant to Member | FL130004 | 12/29/2023
FEDERAL PERMITTING IMPROVEMENT STEERING COUNCIL | Federal Permitting Improvement Steering Council | Director of Public Engagement | FF220002 | 12/02/2023
NATIONAL AERONAUTICS AND SPACE ADMINISTRATION | Office of Communications | Communications Manager (2) Digital Content Strategist | NN220034 NN230015 NN230017 | 12/16/2023 12/16/2023 12/29/2023
| Office of the Administrator | Special Assistant to the Chief of Staff | NN230018 | 12/30/2023
OFFICE OF SCIENCE AND TECHNOLOGY POLICY | Office of Science and Technology Policy | Special Advisor for Director's Initiatives | TS230007 | 12/16/2023
OFFICE OF THE SECRETARY OF DEFENSE | Office of the Assistant Secretary of Defense (Health Affairs) | Special Assistant | DD230194 | 12/01/2023
| Office of the Assistant Secretary of Defense (Legislative Affairs) | Special Assistant | DD230025 | 12/03/2023
| Office of the Assistant Secretary of Defense (Special Operations/Low Intensity Conflict) | Senior Advisor | DD230034 | 12/31/2023
| Office of the Under Secretary of Defense (Policy) | Director, Homeland Defense and Security | DD210259 | 12/01/2023
| Washington Headquarters Services | Special Assistant | DD220175 | 12/16/2023
SMALL BUSINESS ADMINISTRATION | Office of Capital Access | Deputy Associate Administrator for Capital Access | SB230024 | 12/16/2023
| Office of Communications and Public Liaison | Senior Advisor | SB230025 | 12/16/2023

Authority: 5 U.S.C. 3301 and 3302; E.O. 10577, 3 CFR, 1954-1958 Comp., p. 218.

Office of Personnel Management.
Kayyonne Marston,
Federal Register Liaison.

[FR Doc. 2024-11355 Filed 5-22-24; 8:45 am]

BILLING CODE 6325-39-P